DEPARTMENT OF THE TREASURY

Internal Revenue Service

Taxpayer Advocacy Panel Meeting Cancellation

AGENCY: Internal Revenue Service (IRS), Treasury.

ACTION: Notice of meeting cancellation.

SUMMARY: Notice is hereby given of the cancellation of the open meeting of the Taxpayer Advocacy Panel Joint Committee scheduled for Wednesday, July 29, 2015, at 1:00 p.m. Eastern Time via teleconference, which was originally published in the Federal Register on June 5, 2015, (Volume 80, Number 108, Page 32205).

The meeting is cancelled pending face-to-face meeting in August 2015.

FOR FURTHER INFORMATION CONTACT: Lisa Billups at 1-888-912-1227 or 214-413-6523.

Dated: July 20, 2015.
Sheila Andrews,
Director, Taxpayer Advocacy Panel.

[FR Doc. 2015-18116 Filed 7-23-15; 8:45 am]

BILLING CODE 4830-01-P